ENVIRONMENTAL PROTECTION AGENCY

40 CFR Part 55

[OAR-2004-0091; FRL-8052-3]

Outer Continental Shelf Air Regulations; Consistency Update for California

AGENCY: Environmental Protection Agency (“EPA”).

ACTION: Final rule—consistency update.

SUMMARY: EPA is finalizing the updates of the Outer Continental Shelf (“OCS”) Air Regulations proposed in the Federal Register on December 1, 2005 and July 6, 2005. Requirements applying to OCS sources located within 25 miles of states' seaward boundaries must be updated periodically to remain consistent with the requirements of the corresponding onshore area (“COA”), as mandated by section 328(a)(1) of the Clean Air Act Amendments of 1990 (“the Act”). The portions of the OCS air regulations that are being updated pertain to the requirements for OCS sources for which the Santa Barbara County Air Pollution Control District, South Coast Air Quality Management District, State of California and Ventura County Air Pollution Control District are the designated COAs. The intended effect of approving the requirements contained in “Santa Barbara County Air Pollution Control District Requirements Applicable to OCS Sources” (February, 2006), “South Coast Air Quality Management District Requirements Applicable to OCS Sources” (Parts I, II and III) (February, 2006), “State of California Requirements Applicable to OCS Sources” (February, 2006), and “Ventura County Air Pollution Control District Requirements Applicable to OCS Sources” (February, 2006) is to regulate emissions from OCS sources in accordance with the requirements onshore.

DATES: Effective Date: This rule is effective on July 24, 2006.

The incorporation by reference of certain publications listed in this rule is approved by the Director of the Federal Register as of July 24, 2006.

ADDRESSES: EPA has established docket number OAR-2006-0091 for this action. The index to the docket is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia Allen, Air Division, U.S. EPA Region IX, (415) 947-4120, allen.cynthia@epa.gov.

SUPPLEMENTARY INFORMATION:

I. Background

Throughout this document, the terms “we,” “us,” and “our” refer to U.S. EPA.

On July 6, 2005 (70 FR 38840), EPA proposed to approve requirements into the OCS Air Regulations pertaining to Santa Barbara County APCD and Ventura County APCD. On December 1, 2005 (70 FR 72094), EPA proposed to approve requirements into the OCS Air Regulations pertaining to South Coast AQMD and the State of California. These requirements are being promulgated in response to the submittal of rules from these California air pollution control agencies. EPA has evaluated the proposed requirements to ensure that they are rationally related to the attainment or maintenance of Federal or state ambient air quality standards or Part C of title I of the Act, that they are not designed expressly to prevent exploration and development of the OCS and that they are applicable to OCS sources. 40 CFR 55.1. EPA has also evaluated the rules to ensure that they are not arbitrary or capricious. 40 CFR 55.12(e). In addition, EPA has excluded administrative or procedural rules.

Section 328(a) of the Act requires that EPA establish requirements to control air pollution from OCS sources located within 25 miles of states' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's state implementation plan (SIP) guidance or certain requirements of the Act. Consistency updates may result in the inclusion of state or local rules or regulations into part 55, even though the same rules may ultimately be disapproved for inclusion as part of the SIP. Inclusion in the OCS rule does not imply that a rule meets the requirements of the Act for SIP approval, nor does it imply that the rule will be approved by EPA for inclusion in the SIP.

II. Public Comments and EPA Responses

EPA's proposed actions provided 30-day public comment periods. During these periods, we received no comments on the proposed actions. We received late comments to our December proposal from one party, the Western States Petroleum Association (WSPA), which submitted comments by letter dated January 31, 2006, over three weeks after the deadline. While EPA is not obligated to consider late comments, EPA has elected to do so in this instance. WSPA objects to the proposed promulgation of California's Airborne Toxic Control Measure for Stationary Compression Ignition Engines (“ATCM”) under 40 CFR part 55. Our responses to WSPA's specific comments are provided below.

Comment: WSPA had the understanding that the California Air Resources Board (CARB) did not intend to submit the ATCM to EPA for promulgation under the OCS regulations at 40 CFR part 55.

Response: We checked with CARB representatives who confirmed their intention to include the ATCM in the package of rules submitted to EPA for promulgation under 40 CFR part 55.

Comment: WSPA contends that promulgation of the ATCM under 40 CFR part 55 is unnecessary because the ATCM was developed to protect public health of receptors near the vicinity of stationary diesel engines and no such receptors are located in the vicinities of the platforms in the OCS.

Response: We recognize that the primary purpose of the ATCM is to reduce the general public's exposure to diesel particulate matter (PM) from stationary diesel-fueled engines and that exposure of the general public to emissions from engines located on OCS platforms is minimal. However, we understand that CARB accounted for this relative lack of impact on nearby receptor locations by providing an exemption from operating requirements and emission standards for stationary diesel-fueled engines used solely on OCS platforms. See section 93115(c)(10) of title 17, California Code of Regulations. Also, we recognize, based on CARB's Staff Report: Initial Statement of Reasons for Proposed Rulemaking (September 2003), that the ATCM serves other regulatory and planning purposes as well, such as establishing a record of where stationary compression-ignition (CI) engines are located, what fuel they use, and how they are operated and requiring new and in-use stationary CI engines to meet specified fuel requirements. Thus, the relative lack of impact on nearby receptor locations does not make promulgation of the ATCM under 40 CFR part 55 unnecessary or inappropriate.

Comment: WSPA contends that promulgation of the ATCM under 40 CFR part 55 is unnecessary because diesel engines operated on OCS platforms are exempt from the emissions control requirements of the ATCM.

Response: WSPA is correct that the ATCM exempts stationary diesel-fueled engines used solely on OCS platforms from operating requirements and emission standards (see section 93115(c)(10) of title 17, California Code of Regulations). However, such engines are not exempt from the fuels requirements of the ATCM nor are they exempt from the recordkeeping, reporting and monitoring requirements of the rule. Such requirements further legitimate air quality regulatory and planning purposes and thus the exemption for OCS sources from operating requirements and emission standards does not make promulgation of the ATCM under 40 CFR part 55 unnecessary or inappropriate.

Comment: WSPA contends that promulgation of the ATCM under 40 CFR part 55 is unnecessary because the ATCM would establish requirements related to fuel specifications and usage, engine operations, and administrative recordkeeping and monitoring that have already been addressed in local air district rules or under federally enforceable permit conditions.

Response: We may reasonably presume based on the fact that CARB submitted the ATCM to EPA for promulgation under 40 CFR part 55 that the ATCM is not entirely duplicative of local air district rules or federally-enforceable permit conditions. Even if all OCS sources currently voluntarily comply with the ATCM fuel and recordkeeping requirements (which WSPA has not demonstrated), it would still be reasonable to assure compliance continues by incorporating the requirements into part 55.

Comment: WSPA contends that, depending upon how Santa Barbara County Air Pollution Control District (SBCAPCD) implements the ATCM, promulgation of the ATCM under 40 CFR part 55 could preclude the ability of companies to conduct normal business projects by imposing permit and offset requirements on engines that are used for drilling operations in the OCS and that are currently exempt from such requirements.

Response: Today's action, i.e., promulgation of the ATCM under 40 CFR part 55, does not result in any changes to permit exemptions or offset requirements as they relate to OCS sources. If SBCAPCD decides to modify the local rules and regulations so as to extend permitting and offset applicability to engines used in off-shore drilling operations that are currently exempt, the modifications in the rules will not apply to OCS sources until the rules are submitted and approved by EPA in a future part 55 rulemaking. The mere hypothetical possibility of purported adverse consequences for future off-shore drilling operations in the OCS in the wake of one possible regulatory response by SBCAPCD provides us with no basis upon which to decline to promulgate the ATCM under 40 CFR part 55.

III. EPA Action

In this document, EPA takes final action to incorporate the proposed changes into 40 CFR part 55. No changes were made to the proposed actions. EPA is approving the proposed actions under section 328(a)(1) of the Act, 42 U.S.C. 7627. Section 328(a) of the Act requires that EPA establish requirements to control air pollution from OCS sources located within 25 miles of states' seaward boundaries that are the same as onshore requirements. To comply with this statutory mandate, EPA must incorporate applicable onshore rules into part 55 as they exist onshore.

IV. Administrative Requirements

A. Executive Order 12866, Regulatory Planning and Review

The Office of Management and Budget (OMB) has exempted this regulatory action from Executive Order 12866, entitled “Regulatory Planning and Review.”

B. Paperwork Reduction Act

This rule does not impose an information collection burden under the provisions of the Paperwork Reduction Act of 1995 (44 U.S.C. 3501 et seq.).

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

As was stated in the final OCS regulation, the OCS rule does not apply to any small entities, and the structure of the rule averts direct impacts and mitigates indirect impacts on small entities. This consistency update merely incorporates onshore requirements into the OCS rule to maintain consistency with onshore regulations as required by section 328 of the Act and does not alter the structure of the rule.

The EPA certifies that this notice of final rulemaking will not have a significant impact on a substantial number of small entities.

D. Unfunded Mandates Reform Act

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. Accordingly, no additional costs to State, local, or tribal governments, or to the private sector, result from this action.

E. Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a state or federal standard, and does not alter the relationship or the distribution of power and responsibilities established in the Clean Air Act. Thus, the requirements of section 6 of the Executive Order do not apply to this rule.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This final rule does not have tribal implications, as specified in Executive Order 13175. It will not have substantial direct effects on tribal governments, on the relationship between the Federal government and Indian tribes, or on the distribution of power and responsibilities between the Federal government and Indian tribes. Thus, Executive Order 13175 does not apply to this rule.

G. Executive Order 13045, Protection of Children From Environmental Health Risks and Safety Risks

Protection of Children From Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

H. Executive Order 13211, Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This action will be effective July 24, 2006.

K. Petitions for Judicial Review

Under section 307(b)(1) of the Clean Air Act, petitions for judicial review of this action must be filed in the United States Court of Appeals for the appropriate circuit by August 21, 2006. Filing a petition for reconsideration by the Administrator of this final action does not affect the finality of this action for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and recordkeeping requirements, Sulfur oxides.

Editorial Note: This document was received at the Office of the Federal Register on June 16, 2006.

Dated: March 21, 2006.
Wayne Nastri,
Regional Administrator, Region IX.

Title 40, Chapter I of the Code of Federal Regulations, is to be amended as follows:

PART 55—[AMENDED]

1. The authority citation for part 55 continues to read as follows:

Authority: Section 328 of the Clean Air Act (42 U.S.C. 7401 et seq.) as amended by Public Law 101-549.

2. Section 55.14 is amended by revising paragraphs (e)(3)(i)(A), (e)(3)(ii)(F), (e)(3)(ii)(G), and (e)(3)(ii)(H) to read as follows:

§ 55.14 Requirements that apply to OCS sources located within 25 miles of states seaward boundaries, by state.

* * * * *

(e) * * *

(3) * * *

(i) * * *

(A) State of California Requirements Applicable to OCS Sources, February 2006.

(ii) * * *

(F) Santa Barbara County Air Pollution Control District Requirements Applicable to OCS Sources, February 2006.

(G) South Coast Air Quality Management District Requirements Applicable to OCS Sources (Part I, II and Part III), February 2006.

(H) Ventura County Air Pollution Control District Requirements Applicable to OCS Sources, February 2006.

* * * * *

3. Appendix A to CFR part 55 is amended by revising paragraphs (a)(1) and (b)(6), (7), and (8) under the heading “California” to read as follows:

Appendix A to Part 55—Listing of State and Local Requirements Incorporated by Reference Into Part 55, by State

* * * * *

California

(a) * * * (1) The following requirements are contained in State of California Requirements Applicable to OCS Sources, February 2006:

Barclays California Code of Regulations

The following sections of Title 17 Subchapter 6:

17 § 92000—Definitions (Adopted 5/31/91)

17 § 92100—Scope and Policy (Adopted 5/31/91)

17 § 92200—Visible Emission Standards (Adopted 5/31/91)

17 § 92210—Nuisance Prohibition (Adopted 5/31/91)

17 § 92220—Compliance with Performance Standards (Adopted 5/31/91)

17 § 92400—Visible Evaluation Techniques (Adopted 5/31/91)

17 § 92500—General Provisions (Adopted 5/31/91)

17 § 92510—Pavement Marking (Adopted 5/31/91)

17 § 92520—Stucco and Concrete (Adopted 5/31/91)

17 § 92530—Certified Abrasive (Adopted 5/31/91)

17 § 92540—Stucco and Concrete (Adopted 5/31/91)

17 § 93115—Airborne Toxic Control Measure for Stationary Compression Ignition Engines (Adopted 2/26/04)

Health and Safety Code

The following section of Division 26, Part 4, Chapter 4, Article 1:

Health and Safety Code § 42301.13 of seq. Stationary sources: demolition or removal (chaptered 7/25/96)

(b) * * *

(6) The following requirements are contained in Santa Barbara County Air Pollution Control District Requirements Applicable to OCS Sources, February 2006:

Rule 102—Definitions—(Adopted 01/20/05)

Rule 103—Severability—(Adopted 10/23/78)

Rule 106—Notice to Comply for Minor Violations—(Adopted 07/15/99)

Rule 107—Emergencies—(Adopted 04/19/01)

Rule 201—Permits Required—(Adopted 04/17/97)

Rule 202—Exemptions to Rule 201—(Adopted 03/17/05)

Rule 203—Transfer—(Adopted 04/17/97)

Rule 204—Applications—(Adopted 04/17/97)

Rule 205—Standards for Granting Permits—(Adopted 04/17/97)

Rule 206—Conditional Approval of Authority to Construct or Permit to Operate—(Adopted 10/15/91)

Rule 207—Denial of Application—(Adopted 10/23/78)

Rule 210—Fees—(Adopted 03/17/05)

Rule 212—Emission Statements—(Adopted 10/20/92)

Rule 301—Circumvention—(Adopted 10/23/78)

Rule 302—Visible Emissions—(Adopted 10/23/78)

Rule 304—Particulate Matter-Northern Zone—(Adopted 10/23/78)

Rule 305—Particulate Matter Concentration-Southern Zone—(Adopted 10/23/78) —

Rule 306—Dust and Fumes-Northern Zone—(Adopted 10/23/78)

Rule 307—Particulate Matter Emission Weight Rate-Southern Zone—(Adopted 10/23/78)

Rule 308—Incinerator Burning—(Adopted 10/23/78)

Rule 309—Specific Contaminants—(Adopted 10/23/78)

Rule 310—Odorous Organic Sulfides—(Adopted 10/23/78)

Rule 311—Sulfur Content of Fuels—(Adopted 10/23/78)

Rule 312—Open Fires—(Adopted 10/02/90)

Rule 316—Storage and Transfer of Gasoline—(Adopted 04/17/97)

Rule 317—Organic Solvents—(Adopted 10/23/78)

Rule 318—Vacuum Producing Devices or Systems-Southern Zone—(Adopted 10/23/78)

Rule 321—Solvent Cleaning Operations—(Adopted 09/18/97)

Rule 322—Metal Surface Coating Thinner and Reducer—(Adopted 10/23/78)

Rule 323—Architectural Coatings—(Adopted 11/15/01)

Rule 324—Disposal and Evaporation of Solvents—(Adopted 10/23/78)

Rule 325—Crude Oil Production and Separation—(Adopted 07/19/01)

Rule 326—Storage of Reactive Organic Compound Liquids—(Adopted 01/18/01)

Rule 327—Organic Liquid Cargo Tank Vessel Loading—(Adopted 12/16/85)

Rule 328—Continuous Emission Monitoring—(Adopted 10/23/78)

Rule 330—Surface Coating of Metal Parts and Products—(Adopted 01/20/00)

Rule 331—Fugitive Emissions Inspection and Maintenance—(Adopted 12/10/91)

Rule 332—Petroleum Refinery Vacuum Producing Systems, Wastewater Separators and Process Turnarounds—(Adopted 06/11/79)

Rule 333—Control of Emissions from Reciprocating Internal Combustion Engines—(Adopted 04/17/97)

Rule 342—Control of Oxides of Nitrogen (NOX) from Boilers, Steam Generators and Process Heaters)—(Adopted 04/17/97)

Rule 343—Petroleum Storage Tank Degassing—(Adopted 12/14/93)

Rule 344—Petroleum Sumps, Pits, and Well Cellars—(Adopted 11/10/94)

Rule 346—Loading of Organic Liquid Cargo Vessels—(Adopted 01/18/01)

Rule 352—Natural Gas-Fired Fan-Type Central Furnaces and Residential Water Heaters—(Adopted 09/16/99)

Rule 353—Adhesives and Sealants—(Adopted 08/19/99)

Rule 359—Flares and Thermal Oxidizers (Adopted 06/28/94)

Rule 360—Emissions of Oxides of Nitrogen from Large Water Heaters and Small Boilers (Adopted 10/17/02)

Rule 370—Potential to Emit—Limitations for Part 70 Sources (Adopted 06/15/95)

Rule 505—Breakdown Conditions Sections A., B.1,. and D. only (Adopted 10/23/78)

Rule 603—Emergency Episode Plans (Adopted 06/15/81)

Rule 702—General Conformity (Adopted 10/20/94)

Rule 801—New Source Review (Adopted 04/17/97)

Rule 802—Nonattainment Review (Adopted 04/17/97)

Rule 803—Prevention of Significant Deterioration (Adopted 04/17/97)

Rule 804—Emission Offsets (Adopted 04/17/97)

Rule 805—Air Quality Impact Analysis and Modeling (Adopted 04/17/97)

Rule 808—New Source Review for Major Sources of Hazardous Air Pollutants (Adopted 05/20/99)

Rule 1301—Part 70 Operating Permits—General Information (Adopted 06/19/03)

Rule 1302—Part 70 Operating Permits—Permit Application (Adopted 11/09/93)

Rule 1303—Part 70 Operating Permits—Permits (Adopted 11/09/93)

Rule 1304—Part 70 Operating Permits—Issuance, Renewal, Modification and Reopening (Adopted 11/09/93)

Rule 1305—Part 70 Operating Permits—Enforcement (Adopted 11/09/93)

(7) The following requirements are contained in South Coast Air Quality Management District Requirements Applicable to OCS Sources (Part I, II and III), February 2006:

Rule 102—Definition of Terms (Adopted 12/3/04)

Rule 103—Definition of Geographical Areas (Adopted 01/9/76)

Rule 104—Reporting of Source Test Data and Analyses (Adopted 01/9/76)

Rule 108—Alternative Emission Control Plans (Adopted 04/6/90)

Rule 109—Recordkeeping for Volatile Organic Compound Emissions (Adopted 08/18/00)

Rule 112—Definition of Minor Violation and Guidelines for Issuance of Notice to Comply (Adopted 11/13/98)

Rule 118—Emergencies (Adopted 12/07/95)

Rule 201—Permit to Construct (Adopted 12/03/04)

Rule 201.1—Permit Conditions in Federally Issued Permits to Construct (Adopted 12/03/04)

Rule 202—Temporary Permit to Operate (Adopted 12/03/04)

Rule 203—Permit to Operate (Adopted 12/03/04)

Rule 204—Permit Conditions (Adopted 03/6/92)

Rule 205—Expiration of Permits to Construct (Adopted 01/05/90)

Rule 206—Posting of Permit to Operate (Adopted 01/05/90)

Rule 207—Altering or Falsifying of Permit (Adopted 01/09/76)

Rule 208—Permit and Burn Authorization for Open Burning (Adopted 12/21/01)

Rule 209—Transfer and Voiding of Permits (Adopted 01/05/90)

Rule 210—Applications (Adopted 01/05/90)

Rule 212—Standards for Approving Permits (Adopted 12/07/95) except (c)(3) and (e)

Rule 214—Denial of Permits (Adopted 01/05/90)

Rule 217—Provisions for Sampling and Testing Facilities (Adopted 01/05/90)

Rule 218—Continuous Emission Monitoring (Adopted 05/14/99)

Rule 218.1—Continuous Emission Monitoring Performance Specifications (Adopted 05/14/99)

Rule 218.1—Attachment A—Supplemental and Alternative CEMS Performance Requirements (Adopted 05/14/99)

Rule 219—Equipment Not Requiring a Written Permit Pursuant to Regulation II (Adopted 12/03/04)

Rule 220—Exemption—Net Increase in Emissions (Adopted 08/07/81)

Rule 221—Plans (Adopted 01/04/85)

Rule 301—Permitting and Associated Fees (Adopted 06/03/05) except (e)(7)and Table IV

Rule 304—Equipment, Materials, and Ambient Air Analyses (Adopted 06/03/05)

Rule 304.1—Analyses Fees (Adopted 06/03/05)

Rule 305—Fees for Acid Deposition (Adopted 10/04/91)

Rule 306—Plan Fees (Adopted 06/03/05)

Rule 309—Fees for Regulation XVI (Adopted 06/03/05)

Rule 401—Visible Emissions (Adopted 11/09/01)

Rule 403—Fugitive Dust (Adopted 06/03/05)

Rule 404—Particulate Matter—Concentration (Adopted 02/07/86)

Rule 405—Solid Particulate Matter—Weight (Adopted 02/07/86)

Rule 407—Liquid and Gaseous Air Contaminants (Adopted 04/02/82)

Rule 408—Circumvention (Adopted 05/07/76)

Rule 409—Combustion Contaminants (Adopted 08/07/81)

Rule 429—Start-Up and Shutdown Exemption Provisions for Oxides of Nitrogen (Adopted 12/21/90)

Rule 430—Breakdown Provisions, (a) and (b) only (Adopted 07/12/96)

Rule 431.1—Sulfur Content of Gaseous Fuels (Adopted 06/12/98)

Rule 431.2—Sulfur Content of Liquid Fuels (Adopted 09/15/00)

Rule 431.3—Sulfur Content of Fossil Fuels (Adopted 05/7/76)

Rule 441—Research Operations (Adopted 05/7/76)

Rule 442—Usage of Solvents (Adopted 12/15/00)

Rule 444—Open Burning (Adopted 12/21/01)

Rule 463—Organic Liquid Storage (Adopted 05/06/05)

Rule 465—Refinery Vacuum-Producing Devices or Systems (Adopted 08/13/99)

Rule 468—Sulfur Recovery Units (Adopted 10/08/76)

Rule 473—Disposal of Solid and Liquid Wastes (Adopted 05/07/76)

Rule 474—Fuel Burning Equipment-Oxides of Nitrogen (Adopted 12/04/81)

Rule 475—Electric Power Generating Equipment (Adopted 08/07/78)

Rule 476—Steam Generating Equipment (Adopted 10/08/76)

Rule 480—Natural Gas Fired Control Devices (Adopted 10/07/77) Addendum to Regulation IV (Effective 1977)

Rule 518—Variance Procedures for Title V Facilities (Adopted 08/11/95)

Rule 518.1—Permit Appeal Procedures for Title V Facilities (Adopted 08/11/95)

Rule 518.2—Federal Alternative Operating Conditions (Adopted 12/21/01)

Rule 701—Air Pollution Emergency Contingency Actions (Adopted 06/13/97)

Rule 702—Definitions (Adopted 07/11/80)

Rule 708—Plans (Rescinded 09/08/95)

Regulation IX—Standard of Performance For New Stationary Sources (Adopted 05/11/01)

Reg. X—National Emission Standards for Hazardous Air Pollutants (NESHAPS) (Adopted 05/11/01)

Rule 1105.1—Reduction of PM10 And Ammonia Emissions From Fluid Catalytic Cracking Units (Adopted 11/07/03)

Rule 1106—Marine Coating Operations (Adopted 01/13/95)

Rule 1107—Coating of Metal Parts and Products (Adopted 11/09/01)

Rule 1109—Emissions of Oxides of Nitrogen for Boilers and Process Heaters in Petroleum Refineries (Adopted 08/05/88)

Rule 1110—Emissions from Stationary Internal Combustion Engines (Demonstration) (Repealed 11/14/97)

Rule 1110.1—Emissions from Stationary Internal Combustion Engines (Rescinded 06/03/05)

Rule 1110.2—Emissions from Gaseous- and Liquid-Fueled Engines (Adopted 06/03/05)

Rule 1113—Architectural Coatings (Adopted 07/09/04)

Rule 1116.1—Lightering Vessel Operations-Sulfur Content of Bunker Fuel (Adopted 10/20/78)

Rule 1121—Control of Nitrogen Oxides from Residential-Type Natural Gas-Fired Water Heaters (Adopted 09/03/04)

Rule 1122—Solvent Degreasers (Adopted 10/01/04)

Rule 1123—Refinery Process Turnarounds (Adopted 12/07/90)

Rule 1125—Metal Container, Closure, and Coil Coating Operations (Adopted 01/13/95)

Rule 1129—Aerosol Coatings (Adopted 03/08/96)

Rule 1132—Further Control of VOC Emissions from High-Emitting Spray Booth Facilities (Adopted 5/07/04)

Rule 1134—Emissions of Oxides of Nitrogen from Stationary Gas Turbines (Adopted 08/08/97)

Rule 1136—Wood Products Coatings (Adopted 06/14/96)

Rule 1137—PM10 Emission Reductions from Woodworking Operations (Adopted 02/01/02)

Rule 1140—Abrasive Blasting (Adopted 08/02/85)

Rule 1142—Marine Tank Vessel Operations (Adopted 07/19/91)

Rule 1146—Emissions of Oxides of Nitrogen from Industrial, Institutional, and Commercial Boilers, Steam Generators, and Process Heaters (Adopted 11/17/00)

Rule 1146.1—Emission of Oxides of Nitrogen from Small Industrial, Institutional, and Commercial Boilers, Steam Generators, and Process Heaters (Adopted 05/13/94)

Rule 1146.2—Emissions of Oxides of Nitrogen from Large Water Heaters and Small Boilers (Adopted 01/07/05)

Rule 1148—Thermally Enhanced Oil Recovery Wells (Adopted 11/05/82)

Rule 1149—Storage Tank Cleaning And Degassing (Adopted 07/14/95)

Rule 1162—Polyester Resin Operations (Adopted 07/09/04)

Rule 1168—Adhesive and Sealant Applications (Adopted 01/07/05)

Rule 1171—Solvent Cleaning Operations (Adopted 05/06/05)

Rule 1173—Control of Volatile Organic Compounds Leaks and Releases From Components At Petroleum Facilities and Chemical Plants (Adopted 12/06/02)

Rule 1176—VOC Emissions from Wastewater Systems (Adopted 09/13/96)

Rule 1178—Further Reductions of VOC Emissions from Storage Tanks at Petroleum Facilities (Adopted 12/21/01)

Rule 1301—General (Adopted 12/07/95)

Rule 1302—Definitions (Adopted 12/06/02)

Rule 1303—Requirements (Adopted 12/06/02)

Rule 1304—Exemptions (Adopted 06/14/96)

Rule 1306—Emission Calculations (Adopted 12/06/02)

Rule 1313—Permits to Operate (Adopted 12/07/95)

Rule 1403—Asbestos Emissions from Demolition/Renovation Activities (Adopted 04/08/94)

Rule 1470—Requirements for Stationary Diesel-Fueled Internal Combustion and Other Compression Ignition Engines (Adopted 03/04/05)

Rule 1605—Credits for the Voluntary Repair of On-Road Motor Vehicles Identified Through Remote Sensing Devices (Adopted 10/11/96)

Rule 1610—Old-Vehicle Scrapping (Adopted 2/12/99)

Rule 1612—Credits for Clean On-Road Vehicles (Adopted 07/10/98)

Rule 1612.1 Mobile Source Credit Generation Pilot Program (Adopted 03/16/01)

Rule 1620—Credits for Clean Off-Road Mobile Equipment (Adopted 07/10/98)

Rule 1701—General (Adopted 08/13/99)

Rule 1702—Definitions (Adopted 08/13/99)

Rule 1703—PSD Analysis (Adopted 10/07/88)

Rule 1704—Exemptions (Adopted 08/13/99)

Rule 1706—Emission Calculations (Adopted 08/13/99)

Rule 1713—Source Obligation (Adopted 10/07/88)

Regulation XVII—Appendix (effective 1977)

Rule 1901—General Conformity (Adopted 09/09/94)

Regulation XX—Regional Clean Air Incentives Market (Reclaim)

Rule 2000—General (Adopted 05/06/05)

Rule 2001—Applicability (Adopted 05/06/05)

Rule 2002—Allocations for Oxides of Nitrogen (NOX) and Oxides of Sulfur (SOx) (Adopted 01/07/05)

Rule 2004—Requirements (Adopted 05/11/01) except (l)

Rule 2005—New Source Review for RECLAIM (Adopted 05/06/05) except (i)

Rule 2006—Permits (Adopted 05/11/01)

Rule 2007—Trading Requirements (Adopted 05/06/05)

Rule 2008—Mobile Source Credits (Adopted 10/15/93)

Rule 2009—Compliance Plan for Power Producing Facilities (Adopted 01/07/05)

Rule 2010—Administrative Remedies and Sanctions (Adopted 01/07/05)

Rule 2011—Requirements for Monitoring, Reporting, and Recordkeeping for Oxides of Sulfur (SOx) Emissions (Adopted 05/06/05)

Appendix A Volume IV—(Protocol for oxides of sulfur) (Adopted 05/06/05)

Rule 2012—Requirements for Monitoring, Reporting, and Recordkeeping for Oxides of Nitrogen (NOX) Emissions (Adopted 05/06/05)

Appendix A—Volume V—(Protocol for oxides of nitrogen) (Adopted 05/06/05)

Rule 2015—Backstop Provisions (Adopted 06/04/04) except (b)(1)(G) and (b)(3)(B)

Rule 2020—RECLAIM Reserve (Adopted 05/11/01)

Rule 2100—Registration of Portable Equipment (Adopted 07/11/97)

Rule 2506—Area Source Credits for NOX and SOX (Adopted 12/10/99)

XXX—Title V Permits

Rule 3000—General (Adopted 11/14/97)

Rule 3001—Applicability (Adopted 11/14/97)

Rule 3002—Requirements (Adopted 11/14/97)

Rule 3003—Applications (Adopted 03/16/01)

Rule 3004—Permit Types and Content (Adopted 12/12/97)

Rule 3005—Permit Revisions (Adopted 03/16/01)

Rule 3006—Public Participation (Adopted 11/14/97)

Rule 3007—Effect of Permit (Adopted 10/08/93)

Rule 3008—Potential To Emit Limitations (Adopted 03/16/01)

XXXI—Acid Rain Permit Program (Adopted 02/10/95)

(8) The following requirements are contained in Ventura County Air Pollution Control District Requirements Applicable to OCS Sources, February 2006:

Rule 2—Definitions (Adopted 04/13/04)

Rule 5—Effective Date (Adopted 04/13/04)

Rule 6—Severability (Adopted 11/21/78)

Rule 7—Zone Boundaries (Adopted 06/14/77)

Rule 10—Permits Required (Adopted 04/13/04)

Rule 11—Definition for Regulation II (Adopted 06/13/95)

Rule 12—Applications for Permits (Adopted 06/13/95)

Rule 13—Action on Applications for an Authority to Construct (Adopted 06/13/95)

Rule 14—Action on Applications for a Permit to Operate (Adopted 06/13/95)

Rule 15.1—Sampling and Testing Facilities (Adopted 10/12/93)

Rule 16—BACT Certification (Adopted 06/13/95)

Rule 19—Posting of Permits (Adopted 05/23/72)

Rule 20—Transfer of Permit (Adopted 05/23/72)

Rule 23—Exemptions from Permits (Adopted 10/12/04)

Rule 24— Source Recordkeeping, Reporting, and Emission Statements (Adopted 09/15/92)

Rule 26—New Source Review—General (Adopted 10/22/91)

Rule 26.1—New Source Review—Definitions (Adopted 05/14/02)

Rule 26.2—New Source Review—Requirements (Adopted 05/14/02)

Rule 26.3—New Source Review—Exemptions (Adopted 05/14/02)

Rule 26.6—New Source Review—Calculations (Adopted 05/14/02)

Rule 26.8—New Source Review—Permit To Operate (Adopted 10/22/91)

Rule 26.10—New Source Review—PSD (Adopted 01/13/98)

Rule 26.11—New Source Review—ERC Evaluation At Time of Use (Adopted 05/14/02)

Rule 28—Revocation of Permits (Adopted 07/18/72)

Rule 29—Conditions on Permits (Adopted 10/22/91)

Rule 30—Permit Renewal (Adopted 04/13/04)

Rule 32—Breakdown Conditions: Emergency Variances, A., B.1., and D. only. (Adopted 02/20/79)

Rule 33—Part 70 Permits—General (Adopted 10/12/93)

Rule 33.1—Part 70 Permits—Definitions (Adopted 04/10/01)

Rule 33.2—Part 70 Permits—Application Contents (Adopted 04/10/01)

Rule 33.3—Part 70 Permits—Permit Content (Adopted 04/10/01)

Rule 33.4—Part 70 Permits—Operational Flexibility (Adopted 04/10/01)

Rule 33.5—Part 70 Permits—Time frames for Applications, Review and Issuance (Adopted 10/12/93)

Rule 33.6—Part 70 Permits—Permit Term and Permit Reissuance (Adopted 10/12/93)

Rule 33.7—Part 70 Permits—Notification (Adopted 04/10/01)

Rule 33.8—Part 70 Permits—Reopening of Permits (Adopted 10/12/93)

Rule 33.9—Part 70 Permits—Compliance Provisions (Adopted 04/10/01)

Rule 33.10—Part 70 Permits—General Part 70 Permits (Adopted 10/12/93)

Rule 34—Acid Deposition Control (Adopted 03/14/95)

Rule 35—Elective Emission Limits (Adopted 11/12/96)

Rule 36—New Source Review—Hazardous Air Pollutants (Adopted 10/06/98)

Rule 42—Permit Fees (Adopted 04/13/04)

Rule 44—Exemption Evaluation Fee (Adopted 09/10/96)

Rule 45—Plan Fees (Adopted 06/19/90)

Rule 45.2—Asbestos Removal Fees (Adopted 08/04/92)

Rule 47—Source Test, Emission Monitor, and Call-Back Fees (Adopted 06/22/99)

Rule 50—Opacity (Adopted 04/13/04)

Rule 52—Particulate Matter-Concentration (Grain Loading)(Adopted 04/13/04)

Rule 53—Particulate Matter-Process Weight (Adopted 04/13/04)

Rule 54—Sulfur Compounds (Adopted 06/14/94)

Rule 56—Open Burning (Adopted 11/11/03)

Rule 57—Incinerators (Adopted 01/11/05)

Rule 57.1—Particulate Matter Emissions from Fuel Burning Equipment (Adopted 01/11/05)

Rule 62.7—Asbestos—Demolition and Renovation (Adopted 09/01/92)

Rule 63—Separation and Combination of Emissions (Adopted 11/21/78)

Rule 64—Sulfur Content of Fuels (Adopted 04/13/99)

Rule 67—Vacuum Producing Devices (Adopted 07/05/83)

Rule 68—Carbon Monoxide (Adopted 04/13/04)

Rule 71—Crude Oil and Reactive Organic Compound Liquids (Adopted 12/13/94)

Rule 71.1—Crude Oil Production and Separation (Adopted 06/16/92)

Rule 71.2—Storage of Reactive Organic Compound Liquids (Adopted 09/26/89)

Rule 71.3—Transfer of Reactive Organic Compound Liquids (Adopted 06/16/92)

Rule 71.4—Petroleum Sumps, Pits, Ponds, and Well Cellars (Adopted 06/08/93)

Rule 71.5—Glycol Dehydrators (Adopted 12/13/94)

Rule 72—New Source Performance Standards (NSPS) (Adopted 04/10/01)

Rule 73—National Emission Standards for Hazardous Air Pollutants (NESHAPS (Adopted 04/10/01)

Rule 74—Specific Source Standards (Adopted 07/06/76)

Rule 74.1—Abrasive Blasting (Adopted 11/12/91)

Rule 74.2—Architectural Coatings (Adopted 11/13/01)

Rule 74.6—Surface Cleaning and Degreasing (Adopted 11/11/03—effective 07/01/04)

Rule 74.6.1—Batch Loaded Vapor Degreasers (Adopted 11/11/03—effective 07/01/04)

Rule 74.7—Fugitive Emissions of Reactive Organic Compounds at Petroleum Refineries and Chemical Plants (Adopted 10/10/95)

Rule 74.8—Refinery Vacuum Producing Systems, Waste-water Separators and Process Turnarounds (Adopted 07/05/83)

Rule 74.9—Stationary Internal Combustion Engines (Adopted 11/14/00)

Rule 74.10—Components at Crude Oil Production Facilities and Natural Gas Production and Processing Facilities (Adopted 03/10/98)

Rule 74.11—Natural Gas-Fired Residential Water Heaters-Control of NOX (Adopted 04/09/85)

Rule 74.11.1—Large Water Heaters and Small Boilers (Adopted 09/14/99)

Rule 74.12—Surface Coating of Metal Parts and Products (Adopted 11/11/03)

Rule 74.15—Boilers, Steam Generators and Process Heaters (Adopted 11/08/94)

Rule 74.15.1—Boilers, Steam Generators and Process Heaters (Adopted 06/13/00)

Rule 74.16—Oil Field Drilling Operations (Adopted 01/08/91)

Rule 74.20—Adhesives and Sealants (Adopted 01/11/05)

Rule 74.23—Stationary Gas Turbines (Adopted 1/08/02)

Rule 74.24—Marine Coating Operations (Adopted 11/11/03)

Rule 74.24.1—Pleasure Craft Coating and Commercial Boatyard Operations (Adopted 01/08/02)

Rule 74.26—Crude Oil Storage Tank Degassing Operations (Adopted 11/08/94)

Rule 74.27—Gasoline and ROC Liquid Storage Tank Degassing Operations (Adopted 11/08/94)

Rule 74.28—Asphalt Roofing Operations (Adopted 05/10/94)

Rule 74.30—Wood Products Coatings (Adopted 11/11/03)

Rule 75—Circumvention (Adopted 11/27/78)

Rule 101—Sampling and Testing Facilities (Adopted 05/23/72)

Rule 102—Source Tests (Adopted 04/13/04)

Rule 103—Continuous Monitoring Systems (Adopted 02/09/99)

Rule 154—Stage 1 Episode Actions (Adopted 09/17/91)

Rule 155—Stage 2 Episode Actions (Adopted 09/17/91)

Rule 156—Stage 3 Episode Actions (Adopted 09/17/91)

Rule 158—Source Abatement Plans (Adopted 09/17/91)

Rule 159—Traffic Abatement Procedures (Adopted 09/17/91)

Rule 220—General Conformity (Adopted 05/09/95)

Rule 230—Notice to Comply (Adopted 11/09/99)

* * * * *

[FR Doc. E6-9746 Filed 6-21-06; 8:45 am]

BILLING CODE 6560-50-P